DEPARTMENT OF COMMERCE

International Trade Administration

[A-580-876]

Welded Line Pipe From the Republic of Korea: Amended Final Determination of Sales at Less Than Fair Value

AGENCY: Enforcement and Compliance, International Trade Administration, Department of Commerce.

SUMMARY: The Department of Commerce (the Department) is amending the final determination in the less-than-fair-value investigation of welded line pipe from the Republic of Korea (Korea) to correct a ministerial error. The period of investigation is October 1, 2013, through September 30, 2014.

DATES: Effective Date: November 10, 2015.

FOR FURTHER INFORMATION CONTACT: David Goldberger or Ross Belliveau, AD/CVD Operations, Office II, Enforcement and Compliance, International Trade Administration, U.S. Department of Commerce, 14th Street and Constitution Avenue NW., Washington, DC 20230; telephone: (202) 482-4136 or (202) 482-4952, respectively.

SUPPLEMENTARY INFORMATION:

Background

On October 13, 2015, the Department published the final determination in the less-than-fair-value investigation of welded line pipe from Korea.¹ Also on October 13, 2015, the Department received a timely allegation from Hyundai Steel Company ² (HYSCO) that the Department made ministerial errors in applying the conversion cost adjustment, the toll processing cost adjustment, and the revisions to the date of sale for HYSCO.³ On October 14, 2015, the Department received a timely allegation from the petitioners ⁴ that the Department made a ministerial error in the application of the general and administrative (G&A) and the financial expense ratios for HYSCO.⁵ On October 15, 2015, the Department received comments from Maverick Tube Corporation (Maverick) on HYSCO's ministerial error allegation.⁶ On October 19, 2015, the Department received comments from HYSCO on the petitioners' ministerial error allegation.⁷

¹ See Welded Line Pipe From the Republic of Korea: Final Determination of Sales at Less Than Fair Value, 80 FR 61366 (October 13, 2015) (Final Determination).

² On July 1, 2015 Hyundai HYSCO merged into Hyundai Steel Company.

³ See Letter from HYSCO, “Welded Line Pipe from Korea: Ministerial Error Allegation,” dated October 13, 2015 (HYSCO Ministerial Error Allegation).

⁴ The petitioners include American Cast Iron Pipe Company; Energex Tube, a division of JMC Steel Group; Northwest Pipe Company; Stupp Corporation, a division of Stupp Bros., Inc.; Tex-Tube Company; TMK IPSCO; and Welspun Tubular LLC USA (collectively, the petitioners).

⁵ See Letter from the petitioners, “Line Pipe from Korea: Ministerial Error Allegation” dated October 14, 2015.

⁶ See Letter from Maverick, “Welded Line Pipe from South Korea: Response to HYSCO's Ministerial Error Allegations” October 15, 2015.

⁷ See Letter from HYSCO, “Welded Line Pipe from Korea: Response to Petitioners' Ministerial Error Allegation,” dated October 19, 2015.

Based on our analysis of the allegations submitted by HYSCO and the petitioners, we determined that, with respect to the conversion cost adjustment and the toll processing cost adjustment, we did not make ministerial errors, as defined by section 735(e) of the Tariff Act of 1930, as amended (the Act) and 19 CFR 351.224(f).⁸ However, we determined that we did make ministerial errors within the meaning of section 735(e) of the Act and 19 CFR 351.224(f) with respect to the revisions to date of sale and the application of the G&A and financial expense ratios.⁹ We revised the margin calculation for HYSCO accordingly, and assigned a new All Others rate, as discussed below.¹⁰

⁸ See Memorandum entitled “Allegations of Ministerial Errors in the Final Determination,” dated concurrently with this determination and hereby adopted by this notice.

⁹ Id.

¹⁰ Id.

Scope of the Investigation

The scope of the investigation appears in Appendix I of the Final Determination.

Ministerial Error

Section 735(e) of the Act, and 19 CFR 351.224(f) define a “ministerial error” as an error “in addition, subtraction, or other arithmetic function, clerical error resulting from inaccurate copying, duplication, or the like, and any similar type of unintentional error which the Secretary considers ministerial.”

We analyzed the ministerial error allegations and determined, in accordance with section 735(e) of the Act and 19 CFR 351.224(e), that we made ministerial errors with respect to the revisions to date of sale and the application of the G&A and financial expense ratios. In implementing the date of sale methodology to use the earlier of invoice date or shipment date, we inadvertently failed to update HYSCO's reported date of sale variable to account for invoice and shipment date revisions. Therefore, we corrected this error. In addition, we revised HYSCO's calculation of the G&A and financial expense ratios cost of goods sold denominator to reflect the major input rule and transactions disregarded rule adjustments, in order to keep the calculation of the ratios on the same basis as the cost of manufacturing to which they are applied.¹¹ Therefore, we are amending the final determination with respect to HYSCO, in accordance with section 735(e) of the Act and 19 CFR 351.224(e).¹²

¹¹ We note that the correction of this error did not change HYSCO's G&A and financial expense ratios from those in the Final Determination.

¹² The weighted-average dumping margin for SeAH Steel Corporation (SeAH) in the Final Determination has not changed. It remains at 2.53 percent.

Amended Final Determination

As a result of correcting these ministerial errors, we determine that the following weighted-average margins exist for the period October 1, 2013, through September 30, 2014:

Manufacturer/exporter | Weighted- average dumping margin (percent)
Hyundai HYSCO | 6.23
SeAH Steel Corporation | 2.53
All Others | 4.38

Continuation of Suspension of Liquidation

The following cash deposit requirements will be effective upon publication of this notice for all shipments of subject merchandise entered, or withdrawn from warehouse, for consumption on or after the publication of this amended final determination, as provided by section 735(c)(1)(B) of the Act: (1) The cash deposit rate for HYSCO will be the rate we determined in this amended final determination (i.e., 6.23 percent); (2) the cash deposit rate for SeAH will continue to be that identified in the Final Determination (i.e., 2.53 percent); (3) if the exporter is not a firm identified in this investigation but the producer is, the rate will be the rate established for the producer of the subject merchandise; and (4) the rate for all other producers or exporters will be 4.38 percent, as indicated above. These suspension of liquidation instructions will remain in effect until further notice.

U.S. International Trade Commission

In accordance with section 735(d) of the Act, we notified the U.S. International Trade Commission (ITC) of the Final Determination and our amended final determination. As the Final Determination was affirmative, in accordance with section 735(b)(3) of the Act, the ITC will determine within 45 days of the Final Determination whether the domestic industry in the United States is materially injured, or threatened with material injury, by reason of imports or sales (or the likelihood of sales) for importation of the subject merchandise. If the ITC determines that such injury exists, the Department will issue an antidumping duty order directing CBP to assess, upon further instruction by the Department, antidumping duties on all imports of the subject merchandise entered or withdrawn from warehouse, for consumption on or after the effective date of the suspension of liquidation.

This amended final determination notice is published in accordance with section 735(e) of the Act and 19 CFR 351.224(e).

Dated: November 4, 2015.
Paul Piquado,
Assistant Secretary for Enforcement and Compliance.

[FR Doc. 2015-28667 Filed 11-9-15; 8:45 am]

BILLING CODE 3510-DS-P